DEPARTMENT OF TRANSPORTATION

National Highway Traffic Safety Administration

49 CFR Part 541

[Docket No. NHTSA-2012-0073]

Final Theft Data; Motor Vehicle Theft Prevention Standard

AGENCY: National Highway Traffic Safety Administration (NHTSA), Department of Transportation.

ACTION: Publication of 2011 final theft data.

SUMMARY: This document publishes the final data on thefts of model year (MY) 2011 passenger motor vehicles that occurred in calendar year (CY) 2011. The 2011 final theft data shows a decrease in the vehicle theft rate experienced in CY/MY 2011 compared to CY/MY 2010. The final theft rate for MY 2011 passenger vehicles stolen in CY 2011 is 0.99 thefts per thousand vehicles, a decrease of 15.38 percent from the rate of 1.17 thefts per thousand in 2010. Publication of these data fulfills NHTSA's statutory obligation to periodically obtain accurate and timely theft data and publish the information for review and comment.

DATES: Effective Date: February 6, 2014.

FOR FURTHER INFORMATION CONTACT: Ms. Deborah Mazyck, Office of International Policy, Fuel Economy and Consumer Programs, NHTSA, 1200 New Jersey Avenue SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR Part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2011, the most recent calendar year for which data are available.

In calculating the 2011 theft rates, NHTSA followed the same procedures it used in calculating the MY 2010 theft rates. (For 2010 theft data calculations, see 77 FR 58500, September 21, 2012). As in all previous reports, NHTSA's data were based on information provided to NHTSA by the National Crime Information Center (NCIC) of the Federal Bureau of Investigation (FBI). The NCIC is a government system that receives vehicle theft information from nearly 23,000 criminal justice agencies and other law enforcement authorities throughout the United States. The NCIC data also include reported thefts of self-insured and uninsured vehicles, not all of which are reported to other data sources.

The 2011 theft rate for each vehicle line was calculated by dividing the number of reported thefts of MY 2011 vehicles of that line stolen during CY 2011 by the total number of vehicles in that line manufactured for MY 2011, as reported to the Environmental Protection Agency (EPA).

The 2011 final theft data show a decrease in the vehicle theft rate when compared to the theft rate experienced in CY/MY 2010. The final theft rate for MY 2011 passenger vehicles stolen in CY 2011 decreased to 0.99 thefts per thousand vehicles produced, a decrease of 15.38 percent from the rate of 1.17 thefts per thousand vehicles experienced by MY 2010 vehicles in CY 2010. A similar decreasing trend in vehicle thefts was reported in the FBI's 2011 Uniform Crime Report showing a 3.3% reduction in motor vehicle thefts (automobiles, trucks, buses and other vehicles) from 2010 to 2011.

For MY 2011 vehicles, out of a total of 225 vehicle lines, four lines had a theft rate higher than 3.5826 per thousand vehicles, the established median theft rate for MYs 1990/1991. (See 59 FR 12400, March 16, 1994). All four are passenger car lines.

NHTSA's data show that the MY 2011 theft rate reduction is consistent with the general decreasing trend of theft rates over the past 18 years as indicated by Figure 1. The agency continues to believe that the theft rate reduction is the result of several factors including the increased use of standard antitheft devices (i.e., immobilizers) and vehicle parts marking as well as the effectiveness of combined measures used by federal agencies, law enforcement, vehicle manufacturers and the insurance industry to help combat vehicle theft.

On August 16, 2013, NHTSA published the preliminary theft rates for CY 2011 passenger motor vehicles in the Federal Register (78 FR 50014, August 16, 2013). The agency tentatively ranked each of the MY 2011 vehicle lines in descending order of theft rate. The public was requested to comment on the accuracy of the data and to provide final production figures for individual vehicle lines. The agency used written comments to make the necessary adjustments to its data. As a result of the adjustments, some of the final theft rates and rankings of vehicle lines changed from those published in the August 2013 notice.

The agency received a written comment from Volvo Cars of America (Volvo). In its comments, Volvo informed the agency that the production volume for the Volvo XC60 was incorrect. In response to this comment, the production volume for the Volvo XC60 has been corrected and the final theft data has been revised accordingly. As a result of the correction, the Volvo XC60 previously ranked No. 135 with a theft rate of 0.5241 is now ranked No. 162 with a theft rate of 0.3319.

Further review of the final theft list revealed that the model name of the Hyundai Genesis was erroneously listed in the agency's August 2013 correction publication of preliminary data. The correct name designation for the vehicle ranked No. 83 (General Motorssis) should be changed to the Hyundai Genesis. The final theft rate list has been revised to reflect the correct model name.

Reanalysis of the preliminary theft data revealed that the numbering sequence of the vehicle lines was incorrect. The sequence omitted row No. 100. The final theft data has been revised to reflect the correct numbering sequence. As a result of the changes in the numbering sequence, the theft data reflects 225 vehicles for MY 2011.

The following list represents NHTSA's final calculation of theft rates for all 2011 passenger motor vehicle lines. This list is intended to inform the public of calendar year 2011 motor vehicle thefts of model year 2011 vehicles and does not have any effect on the obligations of regulated parties under 49 U.S.C. Chapter 331, Theft Prevention.

BILLING CODE 4910-59-P

Christopher J. Bonanti,
Associate Administrator for Rulemaking.

[FR Doc. 2014-02548 Filed 2-5-14; 8:45 am]

BILLING CODE 4910-59-C